DEPARTMENT OF THE INTERIOR

Bureau of Indian Affairs

[156A2100DD/AAKC001030/A0A501010.999900 253G]

Revision of Agency Information Collection for Indian Reservation Roads

AGENCY: Bureau of Indian Affairs, Interior.

ACTION: Notice of submission to OMB.

SUMMARY: In compliance with the Paperwork Reduction Act of 1995, the Bureau of Indian Affairs (BIA) is submitting to the Office of Management and Budget (OMB) a request for approval for the collection of information for Indian Reservation Roads (IRR). The information collection is currently authorized by OMB Control Number 1076-0161, which expires September 30, 2015.

DATES: Interested persons are invited to submit comments on or before October 14, 2015.

ADDRESSES: You may submit comments on the information collection to the Desk Officer for the Department of the Interior at the Office of Management and Budget, by facsimile to (202) 395-5806 or you may send an email to: OIRA_Submission@omb.eop.gov. Please send a copy of your comments to: Mr. LeRoy Gishi, Chief, Division of Transportation, Bureau of Indian Affairs, 1849 C Street NW., MS-4513-MIB, Washington, DC 20240; facsimile: (202) 208-4696; email: LeRoy.Gishi@bia.gov.

FOR FURTHER INFORMATION CONTACT: Mr. LeRoy Gishi, (202) 513-7711. You may review the information collection request online at http://www.reginfo.gov. Follow the instructions to review Department of the Interior collections under review by OMB.

SUPPLEMENTARY INFORMATION:

I. Abstract

The Bureau of Indian Affairs is currently in the process of revising the regulations governing the Indian Reservations Roads (IRR) program. The proposed rule was published in the Federal Register on December 19, 2014 (79 FR 76192), which will update the Indian Reservation Roads program to the Tribal Transportation Program. The request for approval for this information collection does not include the suggestions and feedback on the proposed regulations, but instead will allow current participants to submit information required under the current regulations, pending the finalization and effective date of any revisions. In addition, there is a reduction in burden hours due to the elimination of the IRR High Priority Projects program under 23 U.S.C. 202(b)(3)(ii). All other programs identified under 25 CFR part 170 are valid. For this reason, the BIA is requesting approval for the revision to the information collection conducted under 25 CFR part 170.

This collection allows federally recognized tribal governments to participate in the Indian Reservation Roads (IRR) program as defined in 25 U.S.C. 202. The information collection determines the allocation of the IRR program funds to Indian tribes as described in 25 U.S.C. 202(b).

II. Request for Comments

On June 10, 2015, BIA published a notice announcing the renewal of this information collection and provided a 60-day comment period in the Federal Register (80 FR 32976). There were no comments received in response to this notice.

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0161.

Title: Indian Reservation Roads, 25 CFR part 170.

Brief Description of Collection: Some of the information such as the road inventory updates (25 CFR 170.443), the development of a long range transportation plan (25 CFR 170.411 and 170.412), the development of a tribal transportation improvement program and priority list (25 CFR 170.420 and 170.421) are mandatory for consideration of projects and for program funding form the formula. Some of the information, such as public hearing requirements, is necessary for public notification and involvement (25 CFR 170.437 and 170.439). While other information, such as data appeals (25 CFR 170.231) and requests for design exceptions (25 CFR 170.456), are voluntary.

Type of Review: Revision of currently approved collection.

Respondents: Federally recognized Indian tribal governments who have transportation needs associated with the IRR Program as described in 25 CFR part 170.

Number of Respondents: 1,369.

Frequency of Response: Annually or on an as needed basis.

Estimated Time per Response: Reports require from 30 minutes to 40 hours to complete. An average would be 16 hours.

Estimated Total Annual Hour Burden: 18,028 hours.

Estimated Total Annual Non-Hour Dollar Cost: $0.

Elizabeth K. Appel,
Director, Office of Regulatory Affairs and Collaborative Action—Indian Affairs.

[FR Doc. 2015-22992 Filed 9-11-15; 8:45 am]

BILLING CODE 4337-15-P